NUCLEAR WASTE TECHNICAL REVIEW BOARD

Board Meeting: Yucca Mountain Repository

May 7-8, 2002—Washington, DC: The Nuclear Waste Technical Review Board will hold a meeting to discuss efforts by the Department of Energy (DOE) related to developing a safety case for a potential Yucca Mountain repository. Other topics that will be discussed include staged repository concepts, repository design concepts, issues related to corrosion of waste package materials, and the DOE's plans for continuing technical and scientific investigations if the Yucca Mountain site recommendation is approved.

Pursuant to its authority under section 5051 of Public Law 100-203, Nuclear Waste Policy Amendments Act of 1987, on Tuesday, May 7, and Wednesday, May 8, 2002, the U.S. Nuclear Waste Technical Review Board (Board) will hold a meeting in Washington, D.C., to discuss efforts by the U.S. Department of Energy (DOE) to develop a safety case for a potential repository for spent nuclear fuel and high-level radioactive waste at Yucca Mountain, Nevada. Also discussed will be “staged” concepts for the development of such a repository, the design of a potential repository, and issues related to corrosion of the materials that would be used for the waste packages at a potential repository. The meeting is open to the public, and opportunities for public comment will be provided. The Board is charged by Congress with reviewing the technical and scientific validity of DOE activities related to managing spent nuclear fuel and high-level radioactive waste.

The Board meeting will be held at the Washington Marriott Hotel; 1221 22nd Street, NW; Washington, D.C. 20037. The telephone number is 202-872-1500; the fax number is 202-872-9899. The meeting sessions will begin at 8 a.m. on both days.

The morning session on Tuesday will begin with comments by a representative of the State of Nevada, followed by a series of presentations by the DOE on the DOE's technical and scientific program, including scheduling and strategic planning. After lunch, the results of the DOE's Waste Package Materials Performance Peer Review will be presented, followed by an update on the State of Nevada's corrosion studies. The balance of the afternoon will be devoted to a discussion of the DOE's safety case for a potential Yucca Mountain repository, which will include the perspectives of the international community, the Nuclear Regulatory Commission, the DOE, and the State of Nevada.

On Wednesday morning, representatives of the international community, the DOE, and the State of Nevada will present their views on staged repository concepts. These presentations will be followed by a discussion of technical issues related to repository design concepts, including presentations on a flexible design concept and on a ventilation design concept. The afternoon session will begin with a discussion of the DOE's performance-confirmation and test and evaluation planning and activities, including a presentations on performance confirmation by the Electric Power Research Institute. An update on the DOE's performance assessment and design priorities will complete the afternoon agenda.

Opportunities for public comment will be provided before lunch and bore adjournment on both days. Those wanting to speak during the public comment periods are encouraged to sign the “Public Comment Register” at the check-in table. A time limit may have to be set on individual remarks, but written comments of any length may be submitted for the record. Interested parties also will have the opportunity to submit questions in writing to the Board. As time permits, the questions will be answered during the meeting.

A detailed agenda will be available approximately one week before the meeting. Copies of the agenda can be requested by telephone or obtained from the Board's Web site at www.nwtrb.gov. Beginning on June 10, 2002, transcripts of the meeting will be available on the Board's Web site, via e-mail, on computer disk, and on a library-loan basis in paper format from Davonya Barnes of the Board staff.

A block of rooms has been reserved at the Washington Marriott Hotel. A meeting rate will be available for reservations made by April 19, 2002. When making a reservation, please state that you are attending the Nuclear Waste Technical Review Board meeting. For more information, contact the NWTRB; Karyn Severson, External Affairs; 2300 Clarendon Boulevard, Suite 1300; Arlington, VA 22201—3367; (tel) 703-235-4473; (fax) 703-235-4495; (e-mail) info@nwtrb.gov.

The Nuclear Waste Technical Review Board was created by Congress in the Nuclear Waste Policy Amendments Act of 1987. The Board's purpose is to evaluate the technical and scientific validity of activities undertaken by the Secretary of Energy related to managing the disposal of the nation's spent nuclear fuel and high-level radioactive waste. In the same legislation, Congress directed the DOE to characterize a site at Yucca Mountain, Nevada, to determine its suitability as the location of a potential repository for the permanent disposal of spent nuclear fuel and high-level radioactive waste.

Dated: March 29, 2002.
William D. Barnard,
Executive Director, Nuclear Waste Technical Review Board.

[FR Doc. 02-8086 Filed 4-2-02; 8:45 am]

BILLING CODE 6820-AM-M